INTERNATIONAL TRADE COMMISSION

[USITC SE-16-042]

Sunshine Act Meeting; Change of Time to Government In the Sunshine Meeting

AGENCY HOLDING THE MEETING: United States International Trade Commission.

DATE: December 9, 2016.

ORIGINAL TIME: 11:00 a.m.

NEW TIME: 9:00 a.m.

PLACE: Room 101, 500 E Street SW., Washington, DC 20436, Telephone: (202) 205-2000.

STATUS: Open to the public.

In accordance with 19 CFR 201.35(d)(2)(i), the Commission hereby gives notice that the Commission has determined to change the time of the meeting of December 9, 2016, from 11:00 a.m. to 9:00 a.m.

In accordance with Commission policy, subject matter listed above, not disposed of at the scheduled meeting, may be carried over to the agenda of the following meeting.

By order of the Commission.
Issued: November 30, 2016.
William R. Bishop,
Supervisory Hearings and Information Officer.

[FR Doc. 2016-29170 Filed 12-1-16; 11:15 am]

BILLING CODE 7020-02-P